DEPARTMENT OF HOMELAND SECURITY

Federal Emergency Management Agency

44 CFR Part 67

[Docket No. FEMA-D-7694]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act

This proposed rule is categorically excluded from the requirements of 44 CFR part 10, Environmental Consideration. An environmental impact assessment has not been prepared.

Regulatory Flexibility Act

As flood elevation determinations are not within the scope of the Regulatory Flexibility Act, 5 U.S.C. 601-612, a regulatory flexibility analysis is not required.

Regulatory Classification

This proposed rule is not a significant regulatory action under the criteria of section 3(f) of Executive Order 12866 of September 30, 1993, Regulatory Planning and Review, 58 FR 51735.

Executive Order 13132, Federalism

This proposed rule involves no policies that have federalism implications under Executive Order 13132.

Executive Order 12988, Civil Justice Reform

This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground: Effective | * Elevation in feet (NGVD) + Elevation in feet (NAVD) # Depth in feet above ground: Modified | Communities affected
Livingston County, Illinois and Incorporated Areas
Vermilion River | Approximately 4H Park Road. | None | +633 | Livingston County (Unincorporated Areas).
| Approximately 1,550 feet above 4H Park Road | None | +633 |
Vermilion River | Approximately Manlove Street extended | None | +641 | Livingston County (Unincorporated Areas).
| Approximately 700 feet above Pearl Street extended | None | +642 |
Indian Creek | Approximately 2,775 feet above Road 900N | None | +666 | Livingston County (Unincorporated Areas).
| Approximately Third Street extended | None | +674 |
Gooseberry Creek | Approximately East Livingston Road (Livingston/Grundy Co. Boundary) | None | +619 | Livingston County (Unincorporated Areas).
| Approximately 1,050 feet downstream of Union Pacific Railroad | None | +628 |
Gooseberry Creek | Approximately Washington Street | None | +641 | Livingston County (Unincorporated Areas).
| Approximately 150 feet above Fieldman Road (CR-3100N)
# Depth in feet above ground.
* National Geodetic Vertical Datum.
+ National American Vertical Datum.
ADDRESSES
Livingston County (Unincorporated Areas)
Maps are available for inspection at the Livingston County Regional Planning Commission, 110 West Water Street, Suite 3, Pontiac, IL 61764.
Send comments to The Honorable William Flott, County Board Chairman, Livingston County Courthouse, 112 W. Madison Street, Pontiac, IL 61764.
Randolph County, North Carolina and Incorporated Areas
Betty McGees Creek | At the confluence with Uwharrie River | None | +397 | Randolph County (Unincorporated Areas).
| Approximately 3.7 miles upstream of Lassiter Mill Road (State Road 1107) | None | +505 |
Caraway Creek | At the confluence with Uwharrie River | None | +411 | Randolph County (Unincorporated Areas), City of Archdale.
| Approximately 1.6 miles upstream of Roy Farlow Road (State Road 1534) | None | +715 |
Hannahs Creek | At the confluence with Uwharrie River | None | +392 | Randolph County (Unincorporated Areas).
| Approximately 0.6 mile upstream of the confluence of Robbins Branch | None | +517 |
Jackson Creek | At the confluence with Uwharrie River | None | +418 | Randolph County (Unincorporated Areas).
| Approximately 0.7 mile upstream of Jackson Creek Road (State Road 1314) | None | +565 |
Lakes Creek | At the confluence with Uwharrie River | None | +372 | Randolph County (Unincorporated Areas).
| Approximately 0.4 mile upstream of the confluence with Uwharrie River | None | +418 |
Laniers Creek | At the confluence with Uwharrie River | None | +385 | Randolph County (Unincorporated Areas).
| Approximately 150 feet downstream of Johnson Farm Road (State Road 1262) | None | +558 |
Little Uwharrie River | At the confluence with Uwharrie River | None | +457 | Randolph County (Unincorporated Areas), City of Trinity.
| Approximately 0.4 mile upstream of NC Highway 62 | None | +891 |
Mill Creek | At the confluence with Uwharrie River | None | +384 | Randolph County (Unincorporated Areas).
| Approximately 390 feet upstream of Lassiter Mill Road (State Road 1107) | None | +400 |
Narrows Branch | At the confluence with Uwharrie River | None | +371 | Randolph County (Unincorporated Areas).
| Approximately 0.4 mile upstream of the confluence with Uwharrie River | None | +460 |
Second Creek | At the confluence with Uwharrie River | None | +396 | Randolph County (Unincorporated Areas).
| Approximately 0.8 mile upstream of the confluence with Second Creek Tributary 3 | None | +505 |
Tributary 1 | At the confluence with Second Creek | None | +396 | Randolph County (Unincorporated Areas).
| Approximately 0.4 mile upstream of the confluence with Second Creek | None | +407
Silver Run Creek | At the confluence with Uwharrie River | None | +394 | Randolph County (Unincorporated Areas).
| Approximately 275 feet upstream of Lassiter Mill Road (State Road 1107) | None | +402 |
Toms Creek | At the confluence with Uwharrie River | None | +402 | Randolph County (Unincorporated Areas).
| Approximately 1.3 miles upstream of Richey Road (State Road 1306) | None | +501 |
Two Mile Creek | At the confluence with Uwharrie River | None | +394 | Randolph County (Unincorporated Areas).
| Approximately 1,970 feet upstream of the confluence with Uwharrie River | None | +398 |
Uwharrie River | At the Montgomery/Randolph County boundary | None | +369 | Randolph County (Unincorporated Areas), City of Trinity.
| Approximately 130 feet upstream of Old Mendenhall Road (State Road 1616) | None | +791 |
Tributary 1 | At the confluence with Uwharrie River | None | +372 | Randolph County (Unincorporated Areas).
| Approximately 1,050 feet upstream of the confluence with Uwharrie River | None | +380 |
Tributary 2 | At the confluence with Uwharrie River | None | +387 | Randolph County (Unincorporated Areas).
| Approximately 0.6 mile upstream of the confluence with Uwharrie River | None | +400 |
Tributary 3 | At the confluence with Uwharrie River | None | +388 | Randolph County (Unincorporated Areas).
| Approximately 1,890 feet upstream of the confluence with Uwharrie River | None | +403 |
Tributary 6 | At the confluence with Uwharrie River | None | +464 | Randolph County (Unincorporated Areas).
| Approximately 335 feet upstream of Skeens Mill Road (State Road 1550) | None | +483 |
Tributary 7 | At the confluence with Uwharrie River | None | +520 | Randolph County (Unincorporated Areas).
| Approximately 0.4 mile upstream of Sumner Road (State Road 1546) | None | +540 |
Tributary 8 | At the confluence with Uwharrie River | None | +557 | Randolph County (Unincorporated Areas), City of Archdale.
| Approximately 190 feet upstream of Alexandria Drive | None | +663 |
Walkers Creek | At the confluence with Uwharrie River | None | +376 | Randolph County (Unincorporated Areas).
| Approximately 1,775 feet upstream of the confluence with Uwharrie River | None | +385 |
* National Geodetic Vertical Datum.
# Depth in feet above ground.
+ North American Vertical Datum.
ADDRESSES
Randolph County (Unincorporated Areas)
Maps are available for inspection at the Randolph County Planning and Zoning Department, 725 McDowell Road, Asheboro, North Carolina.
Send comments to Mr. Richard T. Wells, Randolph County Manager, P.O. Box 4728, Asheboro, North Carolina 27204-4728.
City of Archdale
Maps are available for inspection at the Archdale City Hall, 307 Balfour Drive, Archdale, North Carolina.
Send comments to The Honorable Bert Lance Stone, Mayor of the City of Archdale, P.O. Box 14068, Archdale, North Carolina 27263.
City of Trinity
Maps are available for inspection at the Trinity City Hall, 6701 NC Highway 62, Trinity, North Carolina.
Send comments to The Honorable Fran Andrews, Mayor of the City of Trinity, P.O. Box 50, Trinity, North Carolina 27370.

(Catalog of Federal Domestic Assistance No. 83.100, “Flood Insurance.”)

Dated: February 28, 2007.
David I. Maurstad,
Director, Mitigation Division, Federal Emergency Management Agency, Department of Homeland Security.

[FR Doc. E7-4155 Filed 3-7-07; 8:45 am]

BILLING CODE 9110-12-P